DEPARTMENT OF TRANSPORTATION

Federal Aviation Administration

[Docket No. FAA-2017-0325]

Airport Privatization Pilot Program: Preliminary Application for St. Louis Lambert International Airport, St. Louis, MO

AGENCY: Federal Aviation Administration (FAA), DOT.

ACTION: Notice of receipt and acceptance for review.

SUMMARY: The FAA has completed its review of the St. Louis Lambert International Airport (STL) preliminary application for participation in the Airport Privatization Pilot Program. The preliminary application is accepted for review, with a filing date of March 22, 2017. The City of St. Louis, the airport sponsor, may proceed with the necessary steps to select a private operator, negotiate an agreement and submit a final application to the FAA for exemption under the pilot program.

FOR FURTHER INFORMATION CONTACT: Kevin C. Willis, Director, Airport Compliance and Management Analysis, ACO-1, Federal Aviation Administration, 800 Independence Avenue SW., Washington, DC 20591, telephone (202) 267-3085.

SUPPLEMENTARY INFORMATION:

Background

Title 49 U.S.C. 47134 establishes an airport privatization pilot program and authorizes the Department of Transportation to grant exemptions from certain Federal statutory and regulatory requirements for up to ten airport privatization projects. The application procedures require the FAA to publish a notice in the Federal Register after review of a preliminary application. The FAA must publish a notice of receipt of the final application in the Federal Register for public review and comment for a sixty-day period. The STL preliminary application is available for public review at http://www.regulations.gov. The docket number is FAA Docket No. 2017-0325.

Title 49 U.S.C. 47134 authorizes the Secretary of Transportation, and through delegation, the FAA Administrator, to exempt a sponsor of a public use airport that has received Federal assistance, from certain Federal requirements in connection with the privatization of the airport by sale or lease to a private party. Specifically, the Administrator may exempt the sponsor from all or part of the requirements to use airport revenues for airport-related purposes, to pay back a portion of Federal grants upon the sale or lease of an airport, and to return airport property deeded by the Federal Government upon transfer of the airport. The Administrator is also authorized to exempt the private purchaser or lessee from the requirement to use all airport revenues for airport-related purposes, to the extent necessary to permit the purchaser or lessee to earn compensation from the operations of the airport.

On September 16, 1997, the FAA issued a Notice of procedures to be used in applications for exemption under the Airport Privatization Pilot Program (62 FR 48693). A request for participation in the pilot program must be initiated by the filing of either a preliminary or final application for exemption with the FAA.

The City of St. Louis submitted a preliminary application to the FAA for St. Louis Lambert International Airport on March 22, 2017; the preliminary application is accepted for review, with the same filing date. The City may select a private operator, negotiate an agreement and submit a final application to the FAA for exemption.

If the FAA accepts the final application for review, the application will be made available for public review and comment for a 60-day period.

Issued in Washington, DC, on April 21, 2017.
Kevin C. Willis,
Director, Office of Airport Compliance and Management Analysis.

[FR Doc. 2017-08751 Filed 4-28-17; 8:45 am]

BILLING CODE 4910-13-P